FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 7, 2018.

A. Federal Reserve Bank of Chicago (Colette A. Fried, Assistant Vice President) 230 South LaSalle Street, Chicago, Illinois 60690-1414:

1. 2018 Grantor Trust FBO Rachel Grimstad and 2018 Grantor Trust FBO Gus Grimstad, with Padrin Grimstad as trustee, together with the 2018 Grantor Trust FBO Max Grimstad and 2018 Grantor Trust FBO Oscar Grimstad, with Ann Grimstad as trustee, all of Decorah, Iowa; to join the Grimstad Family Control Group approved on September 21, 2005, and acquire voting shares of Security Agency, Inc., and thereby indirectly acquire voting shares of Decorah Bank and Trust Company, both in Decorah, Iowa.

Board of Governors of the Federal Reserve System, November 16, 2018.
Yao-Chin Chao,
Assistant Secretary of the Board.

[FR Doc. 2018-25383 Filed 11-20-18; 8:45 am]

BILLING CODE P